NATIONAL CREDIT UNION ADMINISTRATION

Renewal of Agency Information Collections for Comments Request: Proposed Collections

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before October 1, 2024 to be assured consideration.

ADDRESSES: Interested persons are invited to submit written comments on the information collection to Dacia Rogers, National Credit Union Administration, 1775 Duke Street, Alexandria, Virginia 22314, Suite 5067; Fax No. (703) 519-8161; or email at PRAComments@NCUA.gov.

FOR FURTHER INFORMATION CONTACT: Copies of the submission may be obtained by contacting Dacia Rogers at (703) 718-1155.

SUPPLEMENTARY INFORMATION:

OMB Number: 3133-0121.

Title: Notice of Change of Officials and Senior Executive Officers.

Type of Review: Extension of a previously approved collection.

Abstract: In order to comply with statutory requirements, the agency must obtain sufficient information from new officials or senior executive officers of troubled or newly chartered credit unions to determine their fitness for the position. This is established by the Financial Institutions Reform, Recovery, and Enforcement Act of 1989 (FIRREA), Public Law 101-73. The forms provide a standardize format to collect the information needed.

Affected Public: Private Sector: Not-for-profit institutions.

Estimated Total Annual Burden Hours: 759.

OMB Number: 3133-0169.

Title: Purchase of Assets and Assumptions of Liabilities, 12 CFR 741.8.

Type of Review: Extension of a previously approved collection.

Abstract: In accordance with § 741.8, federally insured credit unions (FICUs) must request approval from the NCUA prior to purchasing assets or assuming liabilities of a privately insured credit union, other financial institution, or their successor interest. A FICU seeking approval must submit a letter to the appropriate Regional Director stating the nature of the transaction, and include copies of relevant transaction documents. Relevant transactions documents may include, but are not limited to: the credit union's financial statements, strategic plan, and budget, inventory of the assets and liabilities to be transferred, and any relevant contracts or agreements regarding the transfer. NCUA will use the information to determine the safety and soundness of the transaction and risk to the National Credit Union Share Insurance Fund (NCUSIF).

Affected Public: Private Sector: Not-for-profit institutions.

Estimated Total Annual Burden Hours: 1,920.

OMB Number: 3133-0015.

Title: Chartering and Field of Membership Manual, 12 CFR 701.1, App. B to Part 701.

Type of Review: Extension of a previously approved collection.

Abstract: The FCU Act requires NCUA to administer chartering and field of membership requirements for FCUs. This is implemented through the Chartering and Field of Membership (Chartering) Manual as incorporated into NCUA regulations at 12 CFR 701.1 and appendix B to part 701. The Chartering Manual requires credit unions to prepare and submit forms with regard to chartering, field of membership amendments, service to underserved areas, and conversions from federal to state credit unions and state to federal credit unions.

Affected Public: Private Sector: Not-for-profit institutions.

Estimated Total Annual Burden Hours: 16,223.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-17088 Filed 8-1-24; 8:45 am]

BILLING CODE 7535-01-P